DEPARTMENT OF TRANSPORTATION

Research and Special Programs Administration

Office of Hazardous Materials Safety; Notice of Applications for Exemptions

AGENCY: Research and Special Programs Administration, DOT.

ACTION: List of Applicants for Exemptions.

SUMMARY: In accordance with the procedures governing the application for, and the processing of, exemptions from the Department of Transportation's Hazardous Materials Regulations (49 CFR Part 107, Subpart B), notice is hereby given that the Office of Hazardous Materials Safety has received the applications described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before March 28, 2003.

ADDRESS COMMENTS TO: Records Center, Research and Special Programs Administration, U.S. Department of Transportation, Washington, DC 20590.

Comments should refer to the application number and be submitted in triplicate. If confirmation of receipts of comments is desired, include a self-addressed stamped postcard showing the exemption application number.

FOR FURTHER INFORMATION: Copies of the application (See Docket Number) are available for inspection at the New Docket Management Facility, PL-401, at the U.S. Department of Transportation, Nassif Building, 400 7th Street, SW., Washington, DC 20590 or at http://dms.dot.gov.

This notice of receipt of applications for new exemption is published in accordance with Part 107 of the Federal hazardous materials transportation law (49 U.S.C. 5117(b); 49 CFR 1.53(b)).

Issued in Washington, DC, on February 20, 2003.
R. Ryan Posten,
Exemptions Program Officer, Office of Hazardous Materials, Exemptions and Approvals.

New Exemptions
Application No. | Docket No. | Applicant | Regulation(s) Affected | Nature of Exemption Thereof
13167-N |  | Eastman Kodak Company, Rochester, NY | 49 CFR 173.301(f), 173.304 | To authorize the transportation in commerce of anhydrous ammonia in a DOT-E 11725 cylinder which is removed from its original outer packaging and installed in a device as part of an environmental conditioning system. (Mode 1.)
13199-N |  | HVAC Portable Systems, Inc., Houston, TX | 49 CFR 173.302(c), 173.306(e)(1) | To authorize the transportation in commerce of reconditioned refrigeration units containing Division 2.2 hazardous materials. (Mode 1.)
13200-N |  | Southern Air Inc., Columbus, OH | 49 CFR 172.101 Col. 9B, 172.204(c)(3), 173.27(b)(2)(3), 175.30(a)(1) | To authorize the transportation in commerce of Class 1 explosives which are forbidden or exceed quantities as presently authorized. (Mode 4.)
13201-N |  | Powsus Inc., Fort Pierce, FL | 49 CFR 173.309 | To authorize the transportation in commerce of fire extinguishers of plastic construction equipped with steel or aluminum fittings. (Modes 1, 2, 3, 4, 5.)
13202-N |  | CyPlus Corporation, Parsippany, NJ | 49 CFR 173.242 | To authorize the transportation in commerce of dry sodium cyanide, Division 6.1 in alternative bulk packaging inside trailers or freight containers. (Modes 1, 3.)

[FR Doc. 03-4557 Filed 2-25-03; 8:45 am]

BILLING CODE 4910-60-M